DEPARTMENT OF JUSTICE

Notice of Lodging of Proposed Consent Decree Under the Clean Air Act, the Clean Water Act and the Resource Conservation and Recovery Act

On December 31, 2012, the Department of Justice lodged a proposed Consent Decree with the United States District Court for the District of South Carolina in the lawsuit entitled United States v. Weylchem US, Inc., Civil Action No. 3:12-cv-03639-CMC.

In Weylchem, the United States of America (“United States”), on behalf of the Administrator of the United States Environmental Protection Agency (“EPA”), filed a complaint pursuant to the Clean Air Act, 42 U.S.C. 7401 et seq.; the Clean Water Act, 33 U.S.C. 1301 et seq.; and the Resource Conservation and Recovery Act, 42 U.S.C. 6901 et seq., alleging violations of these statutes at Weylchem US, Inc.'s (“Weylchem”) facilities in Elgin, South Carolina and Lugoff, South Carolina. The South Carolina Department of Health and Environmental Control (“SCDHEC”) filed a Complaint in Intervention alleging claims under the South Carolina Pollution Control Act, S.C. Code Section 48-1-110. Under the proposed consent decree, Weylchem agrees to come into compliance with the requirements of the environmental statutes and pay a civil penalty of $500,000, of which $175,000 shall be paid to SCDHEC.

The publication of this notice opens a period for public comment on the Consent Decree. Comments should be addressed to the Assistant Attorney General, Environment and Natural Resources Division, and should refer to United States v. Weylchem US, Inc., D.J. Ref. No. 90-5-2-1-08542/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $30.25 (25 cents per page reproduction cost) payable to the United States Treasury. For a paper copy without the exhibits and signature pages, the cost is $13.00.

Henry S. Friedman,
Assistant Section Chief, Environmental Enforcement Section, Environment and Natural Resources Division.

[FR Doc. 2013-00060 Filed 1-7-13; 8:45 am]

BILLING CODE 4410-15-P